DEPARTMENT OF HOMELAND SECURITY

Federal Emergency Management Agency

[Docket ID FEMA-2020-0002; Internal Agency Docket No. FEMA-B-2052]

Changes in Flood Hazard Determinations

AGENCY: Federal Emergency Management Agency, Homeland Security (DHS).

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Yavapai. | Unincorporated areas of Yavapai County, (20-09-0368P). | Mr. Craig L. Brown, Chairman, Yavapai County Flood Control, District Board of Directors, 1015 Fair Street, Prescott, AZ 86305. | Yavapai County Development Services Department, 1120 Commerce Drive, Prescott, AZ 86305. | https://msc.fema.gov/portal/advanceSearch. | Nov. 30, 2020 | 040093
Colorado:
Adams. | City of Westminster, (19-08-0665P). | The Honorable Herb Atchison, Mayor, City of Westminster, 4880 West 92nd Avenue, Westminster, CO 80031. | City Hall, 4880 West 92nd Avenue, Westminster, CO 80031. | https://msc.fema.gov/portal/advanceSearch. | Nov. 27, 2020 | 080008
Adams. | Unincorporated areas of Adams County, (19-08-0665P). | The Honorable Emma Pinter, Chair, Adams County Board of Commissioners, 4430 South Adams County Parkway, 5th Floor, Suite C5000A, Brighton, CO 80601. | Adams County Development Services Department, Engineering Division, 4430 South Adams County Parkway, 1st Floor, Suite W2000, Brighton, CO 80601. | https://msc.fema.gov/portal/advanceSearch. | Nov. 27, 2020 | 080001
Arapahoe. | City of Littleton (20-08-0155P). | The Honorable Jerry Valdes, Mayor, City of Littleton, 2255 West Berry Avenue, Littleton, CO 80120. | City Hall, 2255 West Berry Avenue, Littleton, CO 80120. | https://msc.fema.gov/portal/advanceSearch. | Nov. 6, 2020 | 080017
Arapahoe. | Town of Columbine Valley, (20-08-0155P). | The Honorable Roy Palmer, Mayor, Town of Columbine Valley, 2 Middlefield Road, Columbine Valley, CO 80123. | Town Hall, 5931 South Middlefield Road, Columbine Valley, CO 80123. | https://msc.fema.gov/portal/advanceSearch. | Nov. 6, 2020 | 080014
Florida:
Gulf. | Unincorporated areas of Gulf County, (20-04-1556P). | Mr. Michael Hammond, Gulf County Administrator, 1000 Cecil G. Costin, Sr. Boulevard, Room 302, Port St. Joe, FL 32456. | Gulf County Planning and Development Department, 1000 Cecil G. Costin Sr. Boulevard, Room 303, Port St. Joe, FL 32456. | https://msc.fema.gov/portal/advanceSearch. | Oct. 30, 2020 | 120098
Lee. | City of Sanibel, (20-04-2943P). | The Honorable Kevin Ruane, Mayor, City of Sanibel, 800 Dunlop Road, Sanibel, FL 33957. | Community Services Department, 800 Dunlop Road, Sanibel, FL 33957. | https://msc.fema.gov/portal/advanceSearch. | Oct. 13, 2020 | 120402
Pasco. | Unincorporated areas of Pasco County, (20-04-0554P). | The Honorable Mike Moore, Chairman, Pasco County Board of Commissioners, 8731 Citizens Drive, New Port Richey, FL 34654. | Pasco County Administration Building, 8731 Citizens Drive, New Port Richey, FL 34654. | https://msc.fema.gov/portal/advanceSearch. | Nov. 27, 2020 | 120230
Sarasota. | City of Sarasota, (20-04-2373P). | The Honorable Jennifer Ahearn-Koch, Mayor, City of Sarasota, 1565 1st Street, Room 101, Sarasota, FL 34236. | Development Services Department, 1565 1st Street, Sarasota, FL 34236. | https://msc.fema.gov/portal/advanceSearch. | Nov. 23, 2020 | 125150
Maine:
Washington. | City of Calais (20-01-0624P). | The Honorable Billy Howard, Mayor, City of Calais, P.O. Box 413, Calais, ME 04619. | City Hall, 11 Church Street, Calais, ME 04619. | https://msc.fema.gov/portal/advanceSearch. | Oct. 22, 2020 | 230134
Washington. | Town of Dennysville, (20-01-0179P) | The Honorable Dawn Noonan, Chair, Town of Dennysville Board of Selectmen, P.O. Box 70, Dennysville, ME 04628. | Town Hall, 2 Main Street, Dennysville, ME 04628. | https://msc.fema.gov/portal/advanceSearch. | Oct. 15, 2020 | 230312
Washington. | Town of Northfield, (20-01-0667P). | The Honorable Glen Morgan, Chairman, Town of Northfield Board of Selectmen, 1940 Northfield Road, Northfield, ME 04654. | Town Hall, 1940 Northfield Road, Northfield, ME 04654. | https://msc.fema.gov/portal/advanceSearch. | Oct. 22, 2020 | 230318
Washington. | Town of Pembroke, (20-01-0179P). | The Honorable Milan Jamieson, Chairman, Town of Pembroke, Board of Selectmen, P.O. Box 247, Pembroke, ME 04666. | Town Hall, 48 Old County Road, Pembroke, ME 04666. | https://msc.fema.gov/portal/advanceSearch. | Oct. 15, 2020 | 230143
Washington. | Town of Perry, (20-01-0179P). | The Honorable Ann Bellefleur, Chair, Town of Perry Board of Selectmen, P.O. Box 430, Perry, ME 04667. | Town Hall, 898 U.S. Route 1, Perry, ME 04667. | https://msc.fema.gov/portal/advanceSearch. | Oct. 15, 2020 | 230319
Washington. | Town of Robbinston, (20-01-0179P). | The Honorable Tom Moholland, Chairman, Town of Robbinston Board of Selectmen, 986 Ridge Road, Robbinston, ME 04671. | Town Hall, 986 Ridge Road, Robbinston, ME 04671. | https://msc.fema.gov/portal/advanceSearch. | Oct. 15, 2020 | 230321
Washington. | Town of Robbinston, (20-01-0624P). | The Honorable Tom Moholland, Chairman, Town of Robbinston Board of Selectmen, 986 Ridge Road, Robbinston, ME 04671. | Town Hall, 986 Ridge Road, Robbinston, ME 04671. | https://msc.fema.gov/portal/advanceSearch. | Oct. 22, 2020 | 230321
Washington. | Town of Wesley, (20-01-0667P). | The Honorable Glen Durling, Chairman, Town of Wesley Board of Selectmen, 2 Whining Pines Drive, Wesley, ME 04686. | Town Hall, 2 Whining Pines Drive, Wesley, ME 04686. | https://msc.fema.gov/portal/advanceSearch. | Oct. 22, 2020 | 230327
Massachusetts: Nantucket. | Town of Nantucket, (20-01-0466P). | The Honorable Dawn E. Hill Holdgate, Chair, Town of Nantucket Board of Selectmen, 16 Broad Street, Nantucket, MA 02554. | Planning and Land Use Services Department, 2 Fairgrounds Road, Nantucket, MA 02554. | https://msc.fema.gov/portal/advanceSearch. | Nov. 27, 2020 | 250230
Mississippi: DeSoto. | Unincorporated areas of DeSoto County, (19-04-3965P). | The Honorable Jessie Medlin, President, DeSoto County Board of Supervisors, 365 Losher Street, Suite 300, Hernando, MS 38632. | DeSoto County Planning and Building Department, 365 Losher Street, Suite 200, Hernando, MS 38632. | https://msc.fema.gov/portal/advanceSearch. | Oct. 16, 2020 | 280050
Oklahoma: Tulsa. | City of Tulsa, (20-06-0535P). | The Honorable G.T. Bynum, Mayor, City of Tulsa, 175 East 2nd Street, Tulsa, OK 74103. | Engineering Services Department, 2317 South Jackson Avenue, Suite S-310, Tulsa, OK 74107. | https://msc.fema.gov/portal/advanceSearch. | Nov. 30, 2020 | 405381
Texas:
Collin. | City of Celina, (20-06-0459P). | The Honorable Sean Terry, Mayor, City of Celina, 142 North Ohio Street, Celina, TX 75009. | City Hall, 142 North Ohio Street, Celina, TX 75009. | https://msc.fema.gov/portal/advanceSearch. | Nov. 16, 2020 | 480133
Collin. | City of Lucas, (20-06-0100P). | Ms. Joni Clarke, Manager, City of Lucas, 665 Country Club Road, Lucas, TX 75002. | Public Works and Engineering Department, 665 Country Club Road, Lucas, TX 75002. | https://msc.fema.gov/portal/advanceSearch. | Nov. 23, 2020 | 481545
Denton. | City of Aubrey, (20-06-0957P). | The Honorable Janet Meyers, Mayor, City of Aubrey, 107 South Main Street, Aubrey, TX 76227. | Denton County GIS Department, 701 Kimberly Drive, Suite A285, Denton, TX 76208. | https://msc.fema.gov/portal/advanceSearch. | Nov. 18, 2020 | 480776
Johnson. | City of Burleson, (19-06-3252P). | The Honorable Ken Shetter, Mayor, City of Burleson, 141 West Renfro Street, Burleson, TX 76028. | City Hall, 141 West Renfro Street, Burleson, TX 76028. | https://msc.fema.gov/portal/advanceSearch. | Nov. 23, 2020 | 485459
Montgomery, . | City of Conroe, (19-06-2853P). | The Honorable Toby Powell, Mayor, City of Conroe, P.O. Box 3066, Conroe, TX 77305. | City Hall, 300 West Davis Street, Conroe, TX 77301. | https://msc.fema.gov/portal/advanceSearch. | Nov. 12, 2020 | 480484
Tarrant. | City of Mansfield, (20-06-0705P). | Mr. Clayton Chandler, Manager, City of Mansfield, 1200 East Broad Street, Mansfield, TX 76063. | Geographic Information Systems (GIS) Department, 1200 East Broad Street, Mansfield, TX 76063. | https://msc.fema.gov/portal/advanceSearch. | Nov. 9, 2020 | 480606
Utah: Grand. | Unincorporated areas of Grand County, (20-08-0298P). | The Honorable Mary McGann, Chair, Grand County Council, 125 East Center Street, Moab, UT 84532. | Grand County Courthouse, 125 East Center Street, Moab, UT 84532. | https://msc.fema.gov/portal/advanceSearch. | Nov. 13, 2020 | 490232
Virginia:
Independent City. | City of Fairfax, (20-03-0228P). | Mr. Robert A. Stalzer, Manager, City of Fairfax, 10455 Armstrong Street, Room 316, Fairfax, VA 22030. | Public Works Department, 10455 Armstrong Street, Fairfax, VA 22030. | https://msc.fema.gov/portal/advanceSearch. | Nov. 16, 2020 | 515524
Prince William. | Unincorporated areas of Prince William County, (20-03-0070P). | Mr. Christopher E. Martino, Prince William County Executive, 1 County Complex Court, Prince William, VA 22192. | Prince William County Department of Public Works, 5 County Complex Court, Prince William, VA 22192. | https://msc.fema.gov/portal/advanceSearch. | Dec. 3, 2020 | 510119

[FR Doc. 2020-18415 Filed 8-20-20; 8:45 am]

BILLING CODE 9110-12-P